DEPARTMENT OF ENERGY

Federal Energy Regulatory Commission

[Project No. 298-081]

Southern California Edison Company; Notice of Application Tendered for Filing With the Commission And Establishing Procedural Schedule for Licensing and Deadline for Submission of Final Amendments

Take notice that the following hydroelectric application has been filed with the Commission and is available for public inspection.

a. Type of Application: New Major License.

b. Project No.: 298-081.

c. Date Filed: December 23, 2019.

d. Applicant: Southern California Edison Company.

e. Name of Project: Kaweah Hydroelectric Project.

f. Location: The existing project is located on the Kaweah River and East Fork Kaweah River in Tulare County, California. The project occupies 176.26 acres of public lands administered by the Bureau of Land Management. The project incorporates non-project facilities (diversion structures and water conveyance facilities) located within Sequoia National Park, which are authorized by a National Park Service special use permit.

g. Filed Pursuant to: Federal Power Act, 16 U.S.C. 791 (a)-825(r).

h. Applicant Contact: Wayne P. Allen, Principle Manager, Hydro Licensing and Implementation, Southern California Edison Company, 1515 Walnut Grove Avenue, Rosemead, CA 91770, (626) 302-9741 or email at wayne.allen@sce.com.

i. FERC Contact: Jim Hastreiter, (503) 552-2760 or james.hastreiter@ferc.gov.

j. This application is not ready for environmental analysis at this time.

k. The Project Description: The Kaweah Project has three developments consisting of the following components.

Kaweah No. 1

This development consists of: (1) A 20-foot-long and 6-foot-high concrete diversion dam on the East Fork Kaweah River, (2) a 30,723-foot-long steel flume, (3) a forebay tank, (4) a 3,340-foot-long penstock, and (4) a powerhouse with an impulse turbine rated at 2.25 megawatts (MW).

Kaweah No. 2

This development consists of: (1) A 161-foot-long and 7-foot-high masonry diversion dam on the Kaweah River, (2) a 16,738-foot-long concrete-lined ditch, (3) a 3,822-foot-long steel flume, (4) a 1,047-foot-long steel pipe, (5) a forebay, (6) a 1,012-foot-long buried penstock, and (7) a powerhouse with a Francis turbine rated at 1.8 MW.

Kaweah No. 3

This development consists of: (1) A 2,580 foot-long concrete-lined flume, (2) an embankment forebay, (3) a 3,151 foot-long penstock, and (4) a powerhouse with two impulse turbines rated at a combined 4.8 MW.

The project has a primary 4.09-mile-long transmission line extending from the Kaweah No. 3 powerhouse to a substation, and two tap lines (120-foot-long and 0.4-mile-long) connecting Kaweah No. 1 and No. 2 powerhouses, respectively, to the primary line, and appurtenant facilities.

Non-project Facilities

The project makes use of several non-project facilities located in Sequoia National Park. These facilities comprise portions of Kaweah No. 1 and No. 3 developments: (1) Two diversion structures on the Middle Fork and Marble Fork Kaweah Rivers, (2) a 21,000-foot-long steel flume that is the initial section of flowline which conveys water to the Kaweah No. 3 powerhouse, and (3) four small reservoirs on the East Fork Kaweah River. These facilities are operated under a special use permit (Permit No. PWR-SEKI-6000-2016-015) issued to SCE by the National Park Service, which expires on September 8, 2026.

The project developments operate independently of one another and in a run-of-river mode. Water captured by the diversion structures is transported through connecting conveyance facilities and penstocks to the powerhouses for power generation and then returned to the river at the tailraces. A portion of the water in Kaweah No. 1 and No. 2 flowlines is used to meet downstream contractual obligations for water delivery with pre-1914 water users.

The project forebays and diversion pools have minimal water storage capability of about 13 acre-feet (AF). The four small non-project reservoirs located on tributaries to the East Fork Kaweah River upstream of the Kaweah No. 1 diversion dam and within the Sequoia National Park store a maximum of 1,153 AF of water, which is used to generate power at the Kaweah No. 1 powerhouse.

The project diversions create two bypassed river reaches. The Kaweah No. 1 development bypasses streamflow around 4.7 miles of the East Fork Kaweah River from the diversion dam to the confluence with the Kaweah River. The Kaweah No. 2 development bypasses streamflow around 4.1 miles of the Kaweah River from the diversion dam to the Kaweah No. 2 powerhouse tailrace.

The volume and timing of streamflow diverted is a function of inflow, minimum flow and ramping rate requirements of the existing license, and the flow required to maintain sufficient head in the water conveyance facilities (flowlines) to meet downstream water delivery contractual obligations. The Kaweah No.1 development flowline has a maximum hydraulic capacity of 24 cubic feet per second (cfs), the Kaweah No. 2 development flowline has a maximum hydraulic capacity of 87 cfs, and the Kaweah No. 3 development flowline has a maximum hydraulic capacity of 97 cfs. To maintain sufficient head pressure to meet downstream water deliveries, SCE must maintain at least 1 cfs flow through the Kaweah No. 1 development and 3 cfs through the Kaweah No. 2 development.

SCE is proposing to modify the existing project boundary to encompass all facilities necessary for operation and maintenance of the project, while removing lands that are not related to project functions. SCE proposes to include the existing Kaweah No. 1 forebay access road as a project facility.

SCE proposes to remove part of the ramping rate requirement when increasing flows below the Kaweah No. 1 and No. 2 diversion dams. The ramping rate in the existing license requires increasing and decreasing flows below Kaweah No. 1 and No. 2 powerhouses to not be altered at a rate greater than 30 percent of the existing stream flow per hour.

SCE also proposes to modify license article 405 to eliminate the need for future modification requests to resource agencies. Historically, SCE has requested approval from California Department of Fish and Wildlife and U.S. Fish and Wildlife Service (FWS) to temporarily reduce minimum flow releases below Kaweah No. 1 diversion and Kaweah No. 2 diversion when projected inflows were approaching the combined flow necessary to meet both water supply and minimum flow release requirements. These flow modifications were necessary to ensure compliance with required minimum flows based on uncertainty in actual runoff and inflow.

SCE further proposes to remove required protective measures for the elderberry shrub, the host plant for the federally threatened valley elderberry longhorn beetle (Desmocerus californicus dimorphus). In 2014, the FWS determined that Tulare County was no longer considered within the valley elderberry longhorn beetle's range.

l. Locations of the Application: A copy of the application is available for review at the Commission in the Public Reference Room or may be viewed on the Commission's website at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | February 2020.
Filing of recommendations, preliminary terms and conditions, and fishway prescriptions | April 2020.
Commission issues Draft EA | October 2020.
Comments on Draft EA | November 2020.
Modified terms and conditions | January 2021.
Commission issues Final EA | April 2021.

o. Final amendments to the application must be filed with the Commission no later than 30 days from the issuance date of the notice of ready for environmental analysis.

Dated: January 8, 2020.
Kimberly D. Bose,
Secretary.

[FR Doc. 2020-00387 Filed 1-13-20; 8:45 am]

BILLING CODE 6717-01-P